DEPARTMENT OF COMMERCE

National Oceanic and Atmospheric Administration

50 CFR Part 679

[Docket No. 210210-0018; RTID 0648-XB658]

Fisheries of the Exclusive Economic Zone Off Alaska; Chinook Salmon Prohibited Species Catch Limits in the Gulf of Alaska

AGENCY: National Marine Fisheries Service (NMFS), National Oceanic and Atmospheric Administration (NOAA), Commerce.

ACTION: Temporary rule; inseason adjustment.

SUMMARY: NMFS is reapportioning the projected unused amount, 200 Chinook salmon prohibited species catch limit, from the vessels participating in directed fishing for pollock in the Central Regulatory Area of the Gulf of Alaska (GOA) to Rockfish Program catcher vessel sector in the Central Regulatory Area of the GOA. This action is consistent with the goals and objectives of the Fishery Management Plan for Groundfish of the GOA.

DATES: Effective December 21, 2021, through 2400 hours, Alaska local time (A.l.t.), December 31, 2021.

FOR FURTHER INFORMATION CONTACT: Obren Davis, 907-586-7228.

SUPPLEMENTARY INFORMATION: Regulations governing fishing by U.S. vessels in accordance with the fishery management plan appear at subpart H of 50 CFR part 600 and 50 CFR part 679.

The 2021 Chinook salmon prohibited species catch (PSC) limit for the Rockfish Program catcher vessel sector in the Central Regulatory Areas of the GOA is 1,200 Chinook salmon (§ 679.21(h)(4)(i)(B)).

The 2021 Chinook salmon PSC limit for vessels directed fishing for pollock using trawl gear in the Central Regulatory Area of the GOA is 16,966 Chinook salmon (§ 679.21(h)(2)(ii) and reallocation (86 FR 46792, August 20, 2021).

The Administrator, Alaska Region, NMFS, (Regional Administrator) has determined that the vessels participating in directed fishing for pollock in the Central Regulatory Area of the GOA will not require 200 Chinook salmon of the Chinook salmon PSC limit allocated to those vessels under § 679.21(h)(2)(ii). Therefore, in accordance with § 679.21(h)(5)(iii) and taking into account the need of the sectors for Chinook salmon PSC, and following the limits set forth in § 679.21(h)(5)(iv)(C), NMFS reapportions 200 Chinook salmon PSC limit to the Rockfish Program catcher vessel sector in the Central Regulatory Area of the GOA.

The 2021 Chinook salmon PSC limits are revised as follows: 16,766 Chinook salmon for vessels participating in directed fishing for pollock in the Central Regulatory Area of the GOA (19,966 minus 200 Chinook salmon) and 1,400 Chinook salmon to the Rockfish Program catcher vessel sector in the Central Regulatory Areas of the GOA (1,200 plus 200 Chinook salmon).

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay the reallocation of Chinook salmon to the Rockfish Program catcher vessel sector in the Central Regulatory Areas of the GOA. NMFS was unable to publish a document providing time for public comment because the most recent, relevant data only became available as of December 9, 2021.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: December 16, 2021.
Ngagne Jafnar Gueye,
Acting Director, Office of Sustainable Fisheries, National Marine Fisheries Service.

[FR Doc. 2021-27649 Filed 12-21-21; 8:45 am]

BILLING CODE 3510-22-P